DEPARTMENT OF THE INTERIOR

National Park Service

[NPS-WASO-VRP-OPH-NPS0032219; PPWOVPADH0, PPMPRHS1Y.Y00000 (211); OMB Control Number 1024-NEW]

Agency Information Collection Activities; NPS Case and Outbreak Investigation Data Collections

AGENCY: National Park Service, Interior.

ACTION: Notice of information collection; request for comment.

SUMMARY: In accordance with the Paperwork Reduction Act of 1995, we, the National Park Service (NPS) are proposing a new information collection.

DATES: Interested persons are invited to submit comments on or before March 28, 2022.

ADDRESSES: Send your comments on this information collection request (ICR) by mail to Phadrea Ponds, NPS Information Collection Clearance Officer, 12201 Sunrise Valley Drive (MS 242), Reston, VA 20192; or by email at phadrea_ponds@nps.gov. Please reference Office of Management and Budget (OMB) Control Number 1024-NEW (EPI) in the subject line of your comments.

FOR FURTHER INFORMATION CONTACT: To request additional information about this ICR, contact Dr. Stefanie Campbell by email at stefanie_campbell@nps.gov or by telephone at 202-768-5008; or Dr. Maria Said by email at maria_said@nps.gov, or by telephone at 202-538-5681. Individuals who are hearing or speech impaired may call the Federal Relay Service at 1-800-877-8339 for TTY assistance.

SUPPLEMENTARY INFORMATION: In accordance with the PRA and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by to the NPS Organic Act, 54 U.S.C. 100101 et seq., and Public Health Service Act, 42 U.S. Code Chapter 6A, the NPS Office of Public Health (OPH) is called upon by National Park Service leadership and others to conduct disease surveillance, respond to urgent outbreaks, and prevent illnesses within or associated with National Parks. National Parks are federally managed lands where state and local health departments may not have jurisdiction, the public health response rests with the NPS OPH. This collection will allow the NPS OPH to conduct epidemiological investigations in response to public health events of concern, including:

• Incidents where three or more visitors, employees, or volunteers have similar symptoms or illnesses

• Single reports of rare or reportable diseases

• Incidents that result in death, cause serious injury or illness, and/or lead to overnight hospitalization

• Wildlife encounters of concern such as bites, scratches, or attacks and wildlife deaths that do not fit known patterns

• Any additional illnesses of public health concern

The information collected will be used to determine the agents, sources, modes of transmission, or risk factors so that effective prevention and control measures can be implemented.

Title of Collection: NPS Case and Outbreak Investigation Data Collections.

OMB Control Number: 1024-NEW.

Form Number: None.

Type of Review: New.

Respondents/Affected Public: Individuals/households, businesses, and governments.

Total Estimated Number of Annual Respondents: 500.

Total Estimated Number of Annual Responses: 500.

Estimated Completion Time per Response: Average 18 minutes.

Total Estimated Number of Annual Burden Hours: 150.

Respondent's Obligation: Voluntary.

Frequency of Collection: On occasion.

Total Estimated Annual Nonhour Burden Cost: None.

An agency may not conduct, or sponsor and a person is not required to respond to a collection of information unless it displays a currently valid OMB control number.

The authority for this action is the Paperwork Reduction Act of 1995 (44 U.S.C. 3501 et seq.).

Phadrea Ponds,
National Park Service Information Collections Clearance Officer.

[FR Doc. 2022-01630 Filed 1-26-22; 8:45 am]

BILLING CODE 4312-52-P